DEPARTMENT OF COMMERCE

Foreign-Trade Zones Board

[B-39-2023]

Foreign-Trade Zone (FTZ) 121; Authorization of Production Activity; GE Vernova Operations, LLC; (Turbines and Generators); Schenectady, New York

On June 8, 2023, GE Vernova Operations, LLC submitted a notification of proposed production activity to the FTZ Board for its facility within FTZ 121, in Schenectady, New York.

The notification was processed in accordance with the regulations of the FTZ Board (15 CFR part 400), including notice in the Federal Register inviting public comment (88 FR 39400, June 16, 2023). On October 6, 2023, the applicant was notified of the FTZ Board's decision that no further review of the activity is warranted at this time. The production activity described in the notification was authorized, subject to the FTZ Act and the FTZ Board's regulations, including section 400.14.

Dated: October 6, 2023.
Elizabeth Whiteman,
Executive Secretary.

[FR Doc. 2023-22571 Filed 10-11-23; 8:45 am]

BILLING CODE 3510-DS-P